DEPARTMENT OF HEALTH AND HUMAN SERVICES

Centers for Disease Control and Prevention

Task Force on Community Preventive Services

In accordance with section 10(a)(2) of the Federal Advisory Committee Act (Pub. L. 92-463), the Centers for Disease Control and Prevention (CDC) announces the following meeting:

Name: Task Force on Community Preventive Services.

Times and Dates: 8 a.m.-6 p.m. EDT, October 17, 2007. 8 a.m.-1 p.m. EDT, October 18, 2007.

Place: Centers for Disease Control and Prevention, Roybal Building 19, 1600 Clifton Road, Atlanta, Georgia 30333.

Status: Open to the public, limited only by the space available.

Purpose: The mission of the Task Force is to develop and publish the Guide to Community Preventive Services (Community Guide), which consists of systematic reviews of the best available scientific evidence and associated recommendations regarding and what works in the delivery of essential public health services.

Topics include: reducing excessive alcohol consumption; improving adolescent health; reducing risky adolescent sexual behavior; worksite health promotion—influenza vaccination; controlling obesity; and updating the Community Guide's vaccine-preventable diseases review. Agenda items are subject to change as priorities dictate.

Persons interested in reserving a space for this meeting should call Tony Pearson-Clarke at 404.498.0972 by close of business on October 5, 2007.

FOR FURTHER INFORMATION CONTACT: Tony Pearson-Clarke, Community Guide Branch, Coordinating Center for Health Information and Service, National Center for Health Marking, Division of Health Communication and Marketing, 1600 Clifton Road, M/S E-69, Atlanta, GA 30333, telephone: 404.498.0972.

Dated: September 11, 2007.
James D. Seligman,
Chief Information Officer, Centers for Disease Control and Prevention.

[FR Doc. E7-18411 Filed 9-18-07; 8:45 am]

BILLING CODE 4120-01-P